ENVIRONMENTAL PROTECTION AGENCY

[FRL OP-OFA-076]

Environmental Impact Statements; Notice of Availability

Responsible Agency: Office of Federal Activities, General Information 202-564-5632 or https://www.epa.gov/nepa.

Weekly receipt of Environmental Impact Statements (EIS)

Filed June 26, 2023 10 a.m. EST Through June 30, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230082, Final, BLM, CO, Proposed Eastern Colorado Resource Management Plan and Environmental Impact Statement, Review Period Ends: 08/07/2023, Contact: Doug Vilsack, BLM CO State Director 303-239-3700.

EIS No. 20230083, Final, FERC, TN, Cumberland Project, Review Period Ends: 08/07/2023, Contact: Office of External Affairs 866-208-3372.

Dated: June 30, 2023.
Cindy S. Barger,
Director, NEPA Compliance Division, Office of Federal Activities.

[FR Doc. 2023-14291 Filed 7-6-23; 8:45 am]

BILLING CODE 6560-50-P